FEDERAL MARITIME COMMISSION

Ocean Transportation Intermediary License Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR part 515, effective on the corresponding date shown below:

License Number: 017727F.

Name: American Maritime Services and Supplies, Inc.

Address: 1922 Tigertail Blvd., Bldg. 12, Dania, FL 33004.

Date Revoked: October 29, 2008.

Reason: Failed to maintain a valid bond.

License Number: 014460NF.

Name: Anthem Worldwide Lines, Inc.

Address: 30 Montgomery Street, Jersey City, NJ 07302.

Date Revoked: October 2, 2008.

Reason: Failed to maintain valid bonds.

License Number: 017104N.

Name: Bay Wind Trans, Inc.

Address: 1550 E. Higgins Rd., Ste. 116, Elk Grove Village, IL 60007.

Date Revoked: October 8, 2008.

Reason: Failed to maintain a valid bond.

License Number: 018784F.

Name: Champion Cargo Services, LLC.

Address: 9523 Jamacha Blvd., Spring Valley, CA 91977.

Date Revoked: October 15, 2008.

Reason: Failed to maintain a valid bond.

License Number: 020535F.

Name: Destiny Global Export Corp.

Address: 12 Kingsberry Drive, Somerset, NJ 08873.

Date Revoked: November 13, 2008.

Reason: Failed to maintain a valid bond.

License Number: 021024F.

Name: ES Express Cargo & Multiservices, Inc. dba El Salvador Express Cargo.

Address: 1325 NW. 93rd Ct., Ste. B-112, Doral, FL 33172.

Date Revoked: November 5, 2008.

Reason: Failed to maintain a valid bond.

License Number: 016320N.

Name: Eurotrans Systems, Inc.

Address: 299 Broadway, Ste. 1815, New York, NY 10007.

Date Revoked: December 12, 2008.

Reason: Failed to maintain a valid bond.

License Number: 017234F.

Name: Ever-Swift Worldwide Inc.

Address: Cargo Bldg. 151, Ste. 377, Jamaica, NY 11430.

Date Revoked: November 25, 2008.

Reason: Failed to maintain a valid bond.

License Number: 019470N.

Name: Flexitank Food Grade, Inc.

Address: Centro Distribucion Del Norte, Edif. 1 Carr.

869, Bo. Palmas, Catano, PR 00962.

Date Revoked: March 22, 2007.

Reason: Failed to maintain a valid bond.

License Number: 000971F.

Name: Gateway Agency, Inc.

Address: 2801 NW. 74th Street, Ste 206, Miami, FL 33122.

Date Revoked: December 17, 2008.

Reason: Failed to maintain a valid bond.

License Number: 019412N.

Name: H & T Shipping, Inc.

Address: 7771 Garvey Ave., #D, Rosemead, CA 91770.

Date Revoked: November 22, 2008.

Reason: Failed to maintain a valid bond.

License Number: 007764N.

Name: Helvetia Container Line Inc.

Address: 29 West 30th Street, 12th Fl., New York, NY 10001.

Date Revoked: November 17, 2008.

Reason: Failed to maintain a valid bond.

License Number: 018700N.

Name: J & B International, Inc.

Address: 1507 Carmen Drive, Elk Grove Village, IL 60007.

Date Revoked: November 7, 2008.

Reason: Failed to maintain a valid bond.

License Number: 019468N.

Name: JSJ Express, Inc.

Address: 181 South Franklin Ave., Ste. 201, Valley Stream, NY 11581.

Date Revoked: October 30, 2008.

Reason: Failed to maintain a valid bond.

License Number: 017888N.

Name: Jet Cargo Forwarders International, Inc.

Address: 3100 E 8th Street, Ste. C, National City, CA 91950.

Date Revoked: November 22, 2008.

Reason: Failed to maintain a valid bond.

License Number: 020813N.

Name: King Con Freight Management, LLC.

Address: 9303 Granby Street, Norfolk, VA 23503.

Date Revoked: December 14, 2008.

Reason: Failed to maintain a valid bond.

License Number: 020294N.

Name: La Ocean Freight Inc.

Address: 3428 Vantage Point Drive, Rowland Heights, CA 91748.

Date Revoked: October 26, 2008.

Reason: Failed to maintain a valid bond.

License Number: 017496F.

Name: Load Group International, Inc. dba Bosmas.

Address: 8301 NW. 66th Street, Miami, FL 33166.

Date Revoked: December 13, 2008.

Reason: Failed to maintain a valid bond.

License Number: 012367N.

Name: Maritime Express, Inc.

Address: 12613 Executive Dr., Ste. 700, Stafford, TX 77477.

Date Revoked: November 26, 2008.

Reason: Failed to maintain a valid bond.

License Number: 017615N.

Name: Micom Logistics Inc.

Address: 8008 NW 14th Street, Ste. 8014, Doral, FL 33126.

Date Revoked: October 13, 2008.

Reason: Failed to maintain a valid bond.

License Number: 020166N.

Name: MK Freight Forwarding Inc.

Address: 160 Wallabout Street, Brooklyn, NY 11206.

Date Revoked: November 15, 2008.

Reason: Failed to maintain a valid bond.

License Number: 016298NF.

Name: Neptune Shipping Company.

Address: 12368 E. Valley Blvd., Ste. 104, El Monte, CA 91732.

Date Revoked: November 21, 2008.

Reason: Failed to maintain valid bonds.

License Number: 019481NF.

Name: North Star Forwarding Solutions, LLC.

Address: 9485 Regency Square Blvd., #109, Jacksonville, FL 32225.

Date Revoked: December 5, 2008.

Reason: Failed to maintain valid bonds.

License Number: 017700N.

Name: Peacock Group, Inc.

Address: 2830 Georgian Terr., Marietta, GA 30068

Date Revoked: November 8, 2008.

Reason: Failed to maintain a valid bond.

License Number: 003490F.

Name: Rose International, Inc. dba Rose Maritime Container Line.

Address: 410 Ogden Ave., PhD, Jersey City, NJ 07307.

Date Revoked: October 30, 2008.

Reason: Failed to maintain a valid bond.

License Number: 020489N.

Name: Sunspeed Transportation Inc.

Address: 11421 E. Carson Street, Ste. R, Lakewood, CA 90715.

Date Revoked: October 10, 2008.

Reason: Failed to maintain a valid bond.

License Number: 010664N.

Name: Taby America, Inc.

Address: 1150 Raritan Rd., Ste. 104, Cranford, NJ 07016.

Date Revoked: November 30, 2008.

Reason: Failed to maintain a valid bond.

License Number: 014225NF.

Name: Tri-Star Forwarders Inc. dba Tri-Star Container Line.

Address: 145-54 157th Street, Jamaica, NY 11434.

Date Revoked: November 7, 2008.

Reason: Failed to maintain valid bonds.

License Number: 019416F.

Name: Trust Express (LAX) Inc.

Address: 8915 S. La Cienega Blvd., Ste. A, Inglewood, CA 90301.

Date Revoked: October 11, 2008.

Reason: Failed to maintain a valid bond.

License Number: 021284F.

Name: USTC America, Inc.

Address: 1250 E. 223rd Street, Ste 107, Carson, CA 90745.

Date Revoked: December 7, 2008.

Reason: Failed to maintain a valid bond.

License Number: 007934N.

Name: Wellcorp Express, Inc. dba Wellcorp U.S.A.

Address: 8616 La Tijera Blvd., Ste. 310, Los Angeles, CA 90045.

Date Revoked: November 27, 2008.

Reason: Failed to maintain a valid bond.

License Number: 015047N.

Name: WPC Consolidators, Inc.

Address: 3770 W. Century Blvd, Inglewood, CA 90303.

Date Revoked: December 19, 2008.

Reason: Failed to maintain a valid bond.

Sandra L. Kusumoto,
Director, Bureau of Certification and Licensing.

[FR Doc. E9-774 Filed 1-14-09; 8:45 am]

BILLING CODE 6730-01-P